DEPARTMENT OF ENERGY

Federal Energy Regulatory Commission

[Project No. 637-064]

Public Utility District No. 1 Chelan County (PUD); Notice of Application To Amend License and Soliciting Comments, Motions To Intervene, and Protests

August 13, 2009.

Take notice that the following application has been filed with the Commission and is available for public inspection:

a. Application Type: Amendment to License.

b. Project No. 637-064.

c. Date Filed: June 15, 2009.

d. Applicant: Public Utility District No. 1 Chelan County (PUD).

e. Name of Project: Lake Chelan Hydroelectric Project.

f. Location: The project is located on the Chelan River in Chelan County near the City of Chelan, Washington.

g. Filed Pursuant to: Federal Power Act 16 U.S.C. § § 791(a)-825(r).

h. Applicant Contact: Michele Smith, Licensing and Compliance Manager at P.O. Box 1231, Wenatchee, Washington. Phone: (509) 661-4186.

i. FERC Contact: Any questions on this notice should be addressed to Brian Romanek at (202) 502-6175 or by e-mail: Brian.Romanek@ferc.gov.

Deadline for filing comments and/or motions: September 14, 2009.

j. Deadline for filing motions to intervene and protests, comments, and recommendations are due 30 days from the issuance date of this notice. All documents (original and eight copies) should be filed with: Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

k. Description of the Application: The PUD, licensee for the Lake Chelan Hydroelectric Project, has filed a request for Commission approval to amend the Chelan Riverwalk Park boundary and project boundary by removing 0.26 acre of land. The land is located in the City of Chelan (city) and is owned by the city. This proposal would be consistent with the city's master plan and would accommodate the city's planning effort to develop within the city and to redesign and improve the entrance to the park.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Project Number of the particular application to which the filing refers. All documents (original and eight copies) should be filed with: Secretary, Federal Energy Regulatory Commission, 888 First Street, NE., Washington DC 20426. A copy of any motion to intervene must also be served upon each representative of the Applicant specified in the particular application.

p. Agency Comments—Federal, State, and local agencies are invited to file comments on the application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-19924 Filed 8-19-09; 8:45 am]

BILLING CODE 6717-01-P